DEPARTMENT OF ENERGY

Federal Energy Regulatory Commission

Combined Notice of Filings #1

Take notice that the Commission received the following exempt wholesale generator filings:

Docket Numbers: EG25-515-000.

Applicants: Big Creek Solar 1 LLC.

Description: Big Creek Solar 1 LLC submits Notice of Self-Certification of Exempt Wholesale Generator Status.

Filed Date: 9/4/25.

Accession Number: 20250904-5099.

Comment Date: 5 p.m. ET 9/25/25.

Take notice that the Commission received the following electric rate filings:

Docket Numbers: ER25-2025-002.

Applicants: Great Basin Transmission, LLC.

Description: Tariff Amendment: GBT Deficiency Response Filing to be effective 8/20/2025.

Filed Date: 9/3/25.

Accession Number: 20250903-5127.

Comment Date: 5 p.m. ET 9/24/25.

Docket Numbers: ER25-3066-002.

Applicants: UGI Utilities, Inc., UGI Utilities Inc.

Description: Tariff Amendment: UGI Utilities Inc. submits tariff filing per 35.17(b): UGIU submits Formula Rate—Depreciation Rate Revision Errata Filing to be effective 10/1/2025.

Filed Date: 9/4/25.

Accession Number: 20250904-5076.

Comment Date: 5 p.m. ET 9/25/25.

Docket Numbers: ER25-3366-000.

Applicants: PJM Interconnection, L.L.C.

Description: § 205(d) Rate Filing: Original NSA, SA No. 7734; Queue No. AF1-049 to be effective 8/5/2025.

Filed Date: 9/3/25.

Accession Number: 20250903-5124.

Comment Date: 5 p.m. ET 9/24/25.

Docket Numbers: ER25-3368-000.

Applicants: Florida Power & Light Company.

Description: § 205(d) Rate Filing: FPL & PowerSouth Amendment to Exhibit A of Interconnection Agreement to be effective 9/5/2025.

Filed Date: 9/4/25.

Accession Number: 20250904-5121.

Comment Date: 5 p.m. ET 9/25/25.

Docket Numbers: ER25-3369-000.

Applicants: AEP Texas Inc.

Description: § 205(d) Rate Filing: AEPTX-LCRA TSC (Garwood Relift) Facilities Develop.m.ent Agreement to be effective 8/20/2025.

Filed Date: 9/4/25.

Accession Number: 20250904-5128.

Comment Date: 5 p.m. ET 9/25/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: September 4, 2025.
Debbie-Anne A. Reese,
Secretary.

[FR Doc. 2025-17267 Filed 9-8-25; 8:45 am]

BILLING CODE 6717-01-P